DEPARTMENT OF COMMERCE

National Oceanic and Atmospheric Administration

[RTID 0648-XD594]

Pacific Fishery Management Council; Public Meeting

AGENCY: National Marine Fisheries Service (NMFS), National Oceanic and Atmospheric Administration (NOAA), Commerce.

ACTION: Notice; public meeting.

SUMMARY: The Pacific Fishery Management Council's (Pacific Council) Committee of the Whole (COTW) will hold a 2-day in-person work session that is open to the public.

DATES: The COTW meeting will be held Thursday, January 18, 2024 from 8 a.m. Pacific Standard Time, until business for the day has been completed. The COTW will reconvene Friday, January 19, 2024, from 8 a.m. until business for the day has been completed.

ADDRESSES: The meeting will be held at the Hyatt Place Portland Airport Cascade Station, Meeting Place 3-4 Room, 9750 NE Cascades Parkway, Portland, Oregon 97220. This work session is being conducted in person, with a web broadcast that provides the opportunity for remote public comment. Specific meeting information, including directions on how to join the meeting and system requirements will be provided in the meeting announcement on the Pacific Council's website (see www.pcouncil.org). Please contact Mr. Kris Kleinschmidt (kris.kleinschmidt@noaa.gov) or (503) 820-2412 for technical assistance.

Council address: Pacific Fishery Management Council, 7700 NE Ambassador Place, Suite 101, Portland, Oregon 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The primary purpose of the Committee-of-the-whole meeting is to discuss the Council's fiscal status, and the alignment of Council finances with priorities and operational practices. The committee will discuss these matters in the context of the Council's next grant period, funding from the Inflation Reduction Act, and other possible sources of Council funding. No management actions will be decided by the COTW. The COTW's recommendations will be considered by the Council at the March Council meeting. A detailed agenda for the meeting will be available on the Pacific Council's website prior to the meeting.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or auxiliary aids should be directed to Mr. Kris Kleinschmidt (kris.kleinschmidt@noaa.gov; (503) 820-2412) at least 10 business days prior to the meeting date.

Authority: 16 U.S.C. 1801 et seq.

Dated: December 28, 2023.
Diane M. DeJames-Daly,
Acting Deputy Director, Office of Sustainable Fisheries, National Marine Fisheries Service.

[FR Doc. 2023-28903 Filed 1-2-24; 8:45 am]

BILLING CODE 3510-22-P